OFFICE OF SCIENCE AND TECHNOLOGY POLICY

Alignment of the Interagency Committee on Ocean Science and Resource Management Integration (ICOSRMI) and the National Ocean Research Leadership Council (NORLC)

AGENCY: Office of Science and Technology Policy.

ACTION: Notice of Action.

SUMMARY: At the April 27, 2007 joint meeting of the Interagency Committee on Ocean Science and Resource Management Integration (ICOSRMI) and the National Ocean Research Leadership Council (NORLC), the principals of both bodies formally voted and unanimously approved that the Interagency Committee on Ocean Science and Resource Management Integration (ICOSRMI) established by the U.S. Ocean Action Plan (OAP), shall also serve as the National Ocean Research Leadership Council (NORLC) established by the National Oceanographic Partnership Program (NOPP); and all actions taken by the ICOSRMI related to the NOPP shall be deemed actions of the NORLC, unless otherwise expressly stated by the ICOSRMI in writing. The intent of this action is to maintain the interagency progress made through NOPP, thus building on a decade of experience made possible through the program, while avoiding duplication of effort with the new governance structure of the OAP. NORLC and the other NOPP committees are now conducting business as their functionally equivalent OAP bodies. This action will align, simplify and strengthen the Federal ocean governance structures.

FOR FURTHER INFORMATION CONTACT: For information regarding this notice, please contact Dr. Dan Walker, Office of Science and Technology Policy, 725 17th Street, NW., Washington, DC 20502. Telephone: (202) 456-6137. E-mail: dwalker@ostp.eop.gov.

SUPPLEMENTARY INFORMATION:

National Ocean Research Leadership Council

The FY 1997 Defense Authorization Act (Public Law 104-201) directed the Secretary of the Navy to establish the National Oceanographic Partnership Program (NOPP, http://www.nopp.org). Supplemental legislation for appointments to the NOPP oversight body, the National Ocean Research Leadership Council (NORLC), and to the Ocean Research Advisory Panel is contained in Public Law 105-85, the FY 1998 Defense Authorization Act. The NOPP promotes the goals of assuring national security, advancing economic development, protecting quality of life, and strengthening science education and communication through improved knowledge of the ocean. The NORLC, comprising leaders of fifteen Federal agencies, guides NOPP in identifying and carrying out partnerships among Federal agencies, industry, and other members of the ocean sciences community in support of those goals.

The Ocean Action Plan Ocean Governance Structure

In September 2004, the U.S. Commission on Ocean Policy (USCOP) completed its report, “An Ocean Blueprint for the 21st Century.” In December 2004, the President submitted to Congress his formal response, the U.S. Ocean Action Plan (OAP) (http://ocean.ceq.gov/actionplan.pdf), which outlines a new ocean governance structure to: (1) Coordinate the activities of executive departments and agencies regarding ocean-related matters in an integrated and effective manner to advance the environmental, economic, and security interests of present and future generations of Americans; and (2) Facilitate, as appropriate, coordination and consultation regarding ocean-related matters among Federal, State, Tribal, and local governments, the private sector, foreign governments, and international organizations.

On December 17, 2004, President Bush established by Executive Order 13366 a Cabinet-level Committee on Ocean Policy to coordinate the activities of executive branch departments and agencies regarding ocean-related matters in an integrated and effective manner to advance the environmental and economic interests of present and future generations of Americans.

As detailed in the U.S. Ocean Action Plan, to help support its work, the Committee on Ocean Policy established the Interagency Committee on Ocean Science and Resource Management Integration (ICOSRMI) co-chaired by the Office of Science and Technology Policy (OSTP) Associate Director for Science and the Council on Environmental Quality (CEQ) Chief of Staff, who report directly to the Chair of the Committee on Ocean Policy. The members consist of Under/Assistant Secretaries or their equivalents from the Executive branch agencies and departments of the Committee on Ocean Policy. The functions of ICOSRMI include: (1) Facilitate and coordinate the work of existing ocean and coastal interagency groups focused on the management of living and nonliving marine resources; (2) recommend the creation of new topical task forces as needed; (3) coordinate with government-wide environmental and natural resource efforts that have important ocean components; (4) identify opportunities for improvements in the application of science for ecosystem-based management of ocean resources; (5) identify priority research needs that can enhance management capabilities; (6) facilitate use of ocean science and technology, including ocean observations, in the implementation of ocean and coastal management and policies; (7) recommend assessments and analyses of Federal ocean resource management initiatives; (8) identify opportunities and articulate priorities for enhancing ocean education, outreach, and capacity building; and (9) identify opportunities for the promotion of international collaboration in ocean resource management. ICOSRMI incorporates the National Ocean Research Leadership Council's (NORLC) current mandate within its broader mandate that includes ocean resource management. (http://ocean.ceq.gov/about/icosrmi.html).

Since January 2005, the Administration has worked actively with Federal agencies to establish the new ocean governance structure and link existing groups with new entities. The functions of NORLC have transitioned to this new OAP structure in order to align, simplify and strengthen the Federal ocean governance.

M. David Hodge,
Operations Manager.

[FR Doc. E7-12510 Filed 6-28-07; 8:45 am]

BILLING CODE 3170-W7-P